DEPARTMENT OF HOMELAND SECURITY

Federal Emergency Management Agency

[Docket ID FEMA-2021-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of May 4, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Logan County, Colorado and Incorporated Areas
Docket No.: FEMA-B-1977
City of Sterling | City Administration Building, Public Works Department, 421 North 4th Street, Sterling, CO 80751.
Town of Crook | Town Hall, 212 4th Street, Crook, CO 80726.
Town of Iliff | Town Hall, 405 West 2nd Avenue, Iliff, CO 80736.
Town of Merino | Town Hall, 208 Colorado Avenue, Merino, CO 80741.
Unincorporated Areas of Logan County | Logan County Courthouse, Planning, Zoning and Building Department, 315 Main Street, Suite 2, Sterling, CO 80751.
Marshall County, Mississippi and Incorporated Areas
Docket No.: FEMA-B-1946
City of Holly Springs | Utility Department, 1050 Highway 4 East, Holly Springs, MS 38635.
Town of Byhalia | Town Hall, 161 Highway 309 South, Byhalia, MS 38611.
Unincorporated Areas of Marshall County | Marshall County Zoning Department, 590 Highway 178 East, Holly Springs, MS 38635.
Quitman County, Mississippi and Incorporated Areas
Docket No.: FEMA-B-1946
Unincorporated Areas of Quitman County | Quitman County Courthouse, 220 Chestnut Street, Suite 3, Marks, MS 38646.
Tate County, Mississippi and Incorporated Areas
Docket No.: FEMA-B-1946
Unincorporated Areas of Tate County | Tate County Emergency Management Office, 910 East F. Hale Drive, Senatobia, MS 38668.
Tunica County, Mississippi and Incorporated Areas
Docket No.: FEMA-B-1946
Town of Tunica | Town Hall, 909 River Road, Tunica, MS 38676.
Unincorporated Areas of Tunica County | Tunica County Office of Planning and Development, 1061 South Court Street, Tunica, MS 38676.
Niagara County, New York (All Jurisdictions)
Docket Nos: FEMA-B-1832 and B-1975
City of Niagara Falls | City Hall, 745 Main Street, Niagara Falls, NY 14301.
City of North Tonawanda | City Hall, 216 Payne Avenue, North Tonawanda, NY 14120.
Town of Lewiston | Town Hall, 1375 Ridge Road, Lewiston, NY 14092.
Town of Newfane | Town Hall/Community Center, 2737 Main Street, Newfane, NY 14108.
Town of Porter | Porter Town Hall, 3265 Creek Road, Youngstown, NY 14174.
Town of Somerset | Somerset Town Hall, 8700 Haight Road, Barker, NY 14012.
Town of Wheatfield | Town Hall, 2800 Church Road, Wheatfield, NY 14120.
Town of Wilson | Town Hall, 375 Lake Street, Wilson, NY 14172.
Village of Lewiston | Village Hall, 145 North 4th Street, Lewiston, NY 14092.
Village of Wilson | Wilson Town Hall, 375 Lake Street, Wilson, NY 14172.
Village of Youngstown | Village Hall, 240 Lockport Street, Youngstown, NY 14174.
Greenville County, South Carolina and Incorporated Areas
Docket No.: FEMA-B-1966
City of Greer | City Hall, 301 East Poinsett Street, Greer, SC 29651.
Unincorporated Areas of Greenville County | Greenville County Square, Code Compliance Division, 301 University Ridge, Suite 4100, Greenville, SC 29601.
Lake County, Ohio and Incorporated Areas
Docket Nos.: FEMA-B-1806 and B-1961
City of Eastlake | City Hall, 35150 Lakeshore Boulevard, Eastlake, OH 44095.
City of Mentor | Municipal Center, 8500 Civic Center Boulevard, Mentor, OH 44060.
City of Mentor-on-the-Lake | City Hall, 5860 Andrews Road, Mentor-on-the-Lake, OH 44060.
City of Willoughby | City Hall, One Public Square, Willoughby, OH 44094.
City of Willowick | Building Inspector's Office, 31230 Vine Street, Willowick, OH 44095.
Unincorporated Areas of Lake County | County Engineer's Office, 550 Blackbrook Road, Painesville, OH 44077.
Village of Fairport Harbor | Village Hall, 220 Third Street, Fairport Harbor, OH 44077.
Village of Grand River | Village Hall, 205 Singer Avenue, Grand River, OH 44045.
Village of Lakeline | Village Hall, 33801 Lakeshore Boulevard, Lakeline, OH 44095.
Village of North Perry | Village Hall, 4449 Lockwood Road, North Perry, OH 44081.
Village of Timberlake | Municipal Building, 11 East Shore Boulevard, Timberlake, OH 44095.
Spartanburg County, South Carolina and Incorporated Areas
Docket No.: FEMA-B-1966
City of Spartanburg | City Hall, 145 West Broad Street, Spartanburg, SC 29306.
City of Wellford | City Hall, 127 Syphrit Road, Wellford, SC 29385.
Town of Duncan | Town Hall, 153 West Main Street, Duncan, SC 29334.
Unincorporated Areas of Spartanburg County | Spartanburg County Administration Building, 366 North Church Street, Spartanburg, SC 29303.
Union County, South Carolina and Incorporated Areas
Docket No.: FEMA-B-1966
City of Union | City Hall, 101 Sharpe Avenue, Union, SC 29379.
Unincorporated Areas of Union County | Union County Court House, 210 West Main Street, Union, SC 29379.

[FR Doc. 2021-01107 Filed 1-15-21; 8:45 am]

BILLING CODE 9110-12-P>